DEPARTMENT OF LABOR

Employment and Training Administration

[TA-W-52,078]

Plastene Supply Co., Plant 1, Division of Siegel Robert, Inc., Portageville, MO; Notice of Termination of Investigation

Pursuant to section 221 of the Trade Act of 1974, as amended, an investigation was initiated on June 18, 2003 in response to a worker petition filed on behalf of workers at Plastene Supply Co., Plant 1, Division of Siegel Robert, Inc., Portageville, Missouri.

The investigation revealed that petition (TA-W-52,078) is a duplicate petition of (TA-W-51,652) instituted on April 30, 2003. Consequently, the investigation has been terminated.

Signed at Washington, DC, this 23rd day of June, 2003.
Elliott S. Kushner,
Certifying Officer, Division of Trade Adjustment Assistance.

[FR Doc. 03-16910 Filed 7-2-03; 8:45 am]

BILLING CODE 4510-30-M